DEPARTMENT OF ENERGY

Federal Energy Regulatory Commission

[Docket No. EC00-58-000, et al.]

The United Illuminating Company, et al.; Electric Rate and Corporate Regulation Filings

February 29, 2000.

Take notice that the following filings have been made with the Commission:

1. The United Illuminating Company

[Docket No. EC00-58-000]

Take notice that on February 24, 2000, The United Illuminating Company (UI) tendered for filing an application pursuant to Section 203 of the Federal Power Act for authorization to implement a corporate reorganization involving the creation of a new holding company, to be known as UIL Holdings Corporation, that will hold the common stock of UI.

Comment date: March 27, 2000, in accordance with Standard paragraph E at the end of this notice.

2. Southwestern Electric Power Company

[Docket No. EC00-1685-000]

Take notice that on February 24, 2000, Southwestern Electric Power Company (SWEPCO) submitted for filing Amendment No. 1 and First Revised Exhibit A to the ERCOT Power Supply Agreement between SWEPCO and Tex-La Electric Cooperative of Texas, Inc. (Tex-La). Amendment No. 1 modifies Tex-La's minimum purchase obligations under the ERCOT PSA.

SWEPCO seeks an effective date of January 1, 2000 and, accordingly, seeks waiver of the Commission's notice requirements.

Copies of the filing have been served on Tex-La and on the Public Utility Commission of Texas.

Comment date: March 16, 2000, in accordance with Standard Paragraph E at the end of this notice.

3. Jersey Central Power & Light Company, Metropolitan Edison Company and Pennsylvania Electric Company

[Docket No. EC00-1686-000]

Take notice that on February 24, 2000, Jersey Central Power & Light Company, Metropolitan Edison Company and Pennsylvania Electric Company (d/b/a GPU Energy), filed an executed Service Agreement between GPU Energy and Reliant Energy Services, Inc. (RELIANT), dated August 10, 1999. This Service Agreement specifies that RELIANT has agreed to the rates, terms and conditions of GPU Energy's Market-based Sales Tariff (Sales Tariff) designated as FERC Electric Rate Schedule, Second Revised Volume No. 5. The Sales Tariff allows GPU Energy and RELIANT to enter into separately scheduled transactions under which GPU Energy will make available for sale, surplus capacity and/or energy.

GPU Energy requests a waiver of the Commission's notice requirements for good cause shown and an effective date of August 10, 1999 for the Service Agreement.

GPU Energy has served copies of the filing on regulatory agencies in New Jersey and Pennsylvania.

Comment date: March 16, 2000, in accordance with Standard Paragraph E at the end of this notice.

4. Minnesota Power, Inc.

[Docket No. EC00-1687-000]

Take notice that on February 24, 2000, Minnesota Power, Inc. tendered for filing signed Non-Firm and Short-term Firm Point-to-Point Transmission Service Agreements with CMMPA/UP under its Short-Term Firm and Non-Firm Point-to-Point Transmission Service to satisfy its filing requirements under this tariff.

Comment date: March 16, 2000, in accordance with Standard Paragraph E at the end of this notice.

5. Geysers Power Company, LLC

[Docket No. EC00-1689-000]

Take notice that on February 24, 2000, Geysers Power Company, LLC (Geysers Power) filed its revised rate sheet amending the terms of the Reliability Must-Run (RMR) Agreements with the California Independent System Operator Corporation (ISO) applicable to the Geysers Main Units. The revised rate sheet is submitted in compliance with the letter order dated February 9, 2000, requiring Geyser Power to file rate schedules to delete MNDC revision values, Geysers Power Company, LLC, 90 FERC ¶ 61,113 (2000).

Comment date: March 16, 2000, in accordance with Standard Paragraph E at the end of this notice.

Standard Paragraphs

E. Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 00-5439 Filed 3-6-00; 8:45 am]

BILLING CODE 6717-01-M